SMALL BUSINESS ADMINISTRATION

Military Reservist Economic Injury Disaster Loans: Interest Rate for Third Quarter FY 2017

In accordance with the Code of Federal Regulations 13—Business Credit and Assistance § 123.512, the following interest rate is effective for Military Reservist Economic Injury Disaster Loans approved on or after April 14, 2017.

Military Reservist Loan Program 3.215%

Dated: April 17, 2017.
James E. Rivera,
Associate Administrator for Disaster Assistance.

[FR Doc. 2017-08218 Filed 4-21-17; 8:45 am]

BILLING CODE P